DEPARTMENT OF HEALTH AND HUMAN SERVICES

Centers for Disease Control and Prevention

National Center for Health Statistics, ICD-10 Coordination and Maintenance Committee

AGENCY: Centers for Disease Control and Prevention (CDC), Department of Health and Human Services (HHS).

ACTION: Notice of meeting.

SUMMARY: The Centers for Disease Control and Prevention (CDC), National Center for Health Statistics (NCHS), Classifications and Public Health Data Standards Staff, announces the following meeting of the ICD-10 Coordination and Maintenance (C&M) Committee. This meeting is open to the public, limited only by the number of audio lines available. Online Registration is required.

DATES: The meeting will be held on September 12, 2023, from 9 a.m. to 5 p.m., EDT, and September 13, 2023, from 9 a.m. to 5 p.m., EDT.

ADDRESSES: This is a virtual meeting. Register in advance at https://cms.zoomgov.com/webinar/register/WN_lWLKuwKzQU6iJdvcDvXhdA. After registering, you will receive a confirmation email containing information about joining the meeting. Further information will be provided on each of the respective web pages when it becomes available. For CDC, NCHS: https://www.cdc.gov/nchs/icd/icd10cm_maintenance.htm. For the Centers for Medicare & Medicaid Services, Department of Health and Human Services: https://www.cms.gov/Medicare/Coding/ICD10/C-and-M-Meeting-Materials.

FOR FURTHER INFORMATION CONTACT: Traci Ramirez, Medical Classification Specialist, National Center for Health Statistics, Centers for Disease Control and Prevention, 3311 Toledo Road, Hyattsville, Maryland 20782-2064. Telephone: (301) 458-4454; Email: TRamirez@cdc.gov.

SUPPLEMENTARY INFORMATION:

Purpose: The ICD-10 Coordination and Maintenance (C&M) Committee is a public forum for the presentation of proposed modifications to the International Classification of Diseases, Tenth Revision, Clinical Modification (CM) and ICD-10 Procedure Coding System (PCS).

Matters to be Considered: The tentative agenda will include discussions on the ICD-10-CM and ICD-10-PCS topics listed below. Agenda items are subject to change as priorities dictate. Please refer to the posted agenda for updates one month prior to the meeting.

ICD-10-PCS Topics:

1. Administration of Iodine (131I) Apamistamab **

2. Irreversible Electroporation for Cardiac Ablation **

3. Computer-aided Anesthesia and Oxygen Delivery System ***

4. Sub-epidermal Moisture Sensor **

5. Insertion of Palladium-103 Radioactive Implant *

6. Implantation of Bone Void Filler ***

7. Section X Updates

8. Addenda and Key Updates *

* Request is for an April 1, 2024, implementation date.

** Request is for an April 1, 2024, implementation date, and the requestor intends to submit a new technology add-on payment (NTAP) application for FY 2025 consideration.

*** Requestor intends to submit an NTAP application for FY 2025 consideration.

Presentations for procedure code requests are conducted by both the requestor and the Centers for Medicare & Medicaid Services (CMS) during the C&M Committee meeting. Discussion from the requestor generally focuses on the clinical issues for the procedure or technology, followed by the proposed coding options from a CMS analyst. Topics presented may also include requests for new procedure codes that relate to a new technology add-on payment (NTAP) policy request.

CMS has modified the approach for presenting the new NTAP-related ICD-10-PCS procedure code requests that involve the administration of a therapeutic agent. For the September 12-13, 2023, ICD-10 C&M Committee meeting, consistent with the requirements of section 1886(d)(5)(K)(iii) of the Social Security Act, applicants submitted requests to create a unique procedure code to describe the administration of a therapeutic agent, such as the option to create a new code in Section X within the ICD-10-PCS procedure code classification. CMS will initially display only those meeting materials associated with the NTAP-related ICD-10-PCS procedure code requests that involve the administration of a therapeutic agent on the CMS website in August 2023 at: https://www.cms.gov/Medicare/Coding/ICD10/C-and-M-Meeting-Materials.

The NTAP-related ICD-10-PCS procedure code request that involves the administration of a therapeutic agent is:

Administration of Iodine (131I) Apamistamab **

** Request is for an April 1, 2024, implementation date, and the requestor intends to submit an NTAP application for FY 2025 consideration.

This topic will not be presented during the September 12-13, 2023, meeting. CMS will solicit public comments regarding any clinical questions or coding options included for this procedure code topic in advance of the meeting continuing through the end of the respective public comment periods. Members of the public should send any questions or comments to the CMS mailbox at: ICDProcedureCodeRequest@cms.hhs.gov.

CMS intends to post a question-and-answer document in advance of the meeting to address any clinical or coding questions that members of the public may have submitted. Following the conclusion of the meeting, CMS will post an updated question-and-answer document to address any additional clinical or coding questions that members of the public may have submitted during the meeting that CMS was not able to address or that were submitted after the meeting.

The NTAP-related ICD-10-PCS procedure code requests that do not involve the administration of a therapeutic agent and all non-NTAP-related procedure code requests will continue to be presented during the virtual meeting on September 12, 2023, consistent with the standard meeting process.

CMS will make all meeting materials and related documents available at: https://www.cms.gov/Medicare/Coding/ICD10/C-and-M-Meeting-Materials. Any inquiries related to the procedure code topics scheduled for the September 12-13, 2023, ICD-10 C&M Committee meeting that are under consideration for April 1, 2024, or October 1, 2024, implementation should be sent to the CMS mailbox at: ICDProcedureCodeRequest@cms.hhs.gov.

ICD-10-CM Topics:

1. Abnormal Anti-cyclic Citrullinated Peptide Antibody and/or Rheumatoid Factor Without Current or Prior Clinical Diagnosis of Rheumatoid Arthritis

2. Adverse Effects of Immune Checkpoint Therapy

3. Anal Fistula

4. Baked Egg Tolerance

5. Baked Milk Tolerance

6. Duffy Phenotype

7. Flank Anatomical Specificity

8. Gulf War Illness

9. Hyperoxaluria

10. Injection Drug Use

11. Lymphoma in Remission

12. Post-exertional Malaise

13. Usher Syndrome

14. Addenda

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-16105 Filed 7-28-23; 8:45 am]

BILLING CODE 4163-18-P